DEPARTMENT OF TRANSPORTATION

Federal Aviation Administration

14 CFR Part 39

[Docket No. FAA-2023-1223; Project Identifier MCAI-2022-00982-T]

RIN 2120-AA64

Airworthiness Directives; Bombardier, Inc., Airplanes

AGENCY: Federal Aviation Administration (FAA), DOT.

ACTION: Notice of proposed rulemaking (NPRM).

SUMMARY: The FAA proposes to adopt a new airworthiness directive (AD) for certain Bombardier, Inc., Model BD-700-1A10 and BD-700-1A11 airplanes. This proposed AD was prompted by a determination that a certain nondestructive test (NDT) procedure associated with a certain airworthiness limitation for inspecting the inboard, mid, and outboard flap metallic end ribs does not contain all of the necessary instructions. This proposed AD would require a revision to the existing maintenance or inspection program to require using a revised NDT procedure when performing an airworthiness limitation task. This proposed AD would also prohibit the use of earlier revisions of that NDT procedure. The FAA is proposing this AD to address the unsafe condition on these products.

DATES: The FAA must receive comments on this proposed AD by August 21, 2023.

ADDRESSES: You may send comments, using the procedures found in 14 CFR 11.43 and 11.45, by any of the following methods:

• Federal eRulemaking Portal: Go to regulations.gov. Follow the instructions for submitting comments.

• Fax: 202-493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

AD Docket: You may examine the AD docket at regulations.gov under Docket No. FAA-2023-1223; or in person at Docket Operations between 9 a.m. and 5 p.m., Monday through Friday, except Federal holidays. The AD docket contains this NPRM, the mandatory continuing airworthiness information (MCAI), any comments received, and other information. The street address for Docket Operations is listed above.

Material Incorporated by Reference:

• For service information identified in this NPRM, contact Bombardier, Inc., Business Aircraft Customer Response Center, 400 Côte-Vertu Road West, Dorval, Québec H4S 1Y9, Canada; telephone 514-855-2999; email: ac.yul@aero.bombardier.com; internet: bombardier.com.

• You may view this service information at the FAA, Airworthiness Products Section, Operational Safety Branch, 2200 South 216th Street, Des Moines, WA. For information on the availability of this material at the FAA, call 206-231-3195.

FOR FURTHER INFORMATION CONTACT: Yaser Osman, Aviation Safety Engineer, FAA, 1600 Stewart Avenue, Suite 410, Westbury, NY 11590; telephone: 516-228-7300; email: 9-avs-nyaco-cos@faa.gov.

SUPPLEMENTARY INFORMATION:

Comments Invited

The FAA invites you to send any written relevant data, views, or arguments about this proposal. Send your comments to an address listed under ADDRESSES. Include “Docket No. FAA-2023-1223; Project Identifier MCAI-2022-00982-T” at the beginning of your comments. The most helpful comments reference a specific portion of the proposal, explain the reason for any recommended change, and include supporting data. The FAA will consider all comments received by the closing date and may amend the proposal because of those comments.

Except for Confidential Business Information (CBI) as described in the following paragraph, and other information as described in 14 CFR 11.35, the FAA will post all comments received, without change, to regulations.gov, including any personal information you provide. The agency will also post a report summarizing each substantive verbal contact received about this NPRM.

Confidential Business Information

CBI is commercial or financial information that is both customarily and actually treated as private by its owner. Under the Freedom of Information Act (FOIA) (5 U.S.C. 552), CBI is exempt from public disclosure. If your comments responsive to this NPRM contain commercial or financial information that is customarily treated as private, that you actually treat as private, and that is relevant or responsive to this NPRM, it is important that you clearly designate the submitted comments as CBI. Please mark each page of your submission containing CBI as “PROPIN.” The FAA will treat such marked submissions as confidential under the FOIA, and they will not be placed in the public docket of this NPRM. Submissions containing CBI should be sent to Yaser Osman, Aviation Safety Engineer, FAA, 1600 Stewart Avenue, Suite 410, Westbury, NY 11590; telephone: 516-228-7300; email: 9-avs-nyaco-cos@faa.gov. Any commentary that the FAA receives which is not specifically designated as CBI will be placed in the public docket for this rulemaking.

Background

Transport Canada, which is the aviation authority for Canada, has issued Transport Canada AD CF-2022-40, dated July 21, 2022 (Transport Canada AD CF-2022-40) (also referred to after this as the MCAI), to correct an unsafe condition for certain Bombardier, Inc., Model BD-700-1A10, and BD-700-1A11 airplanes. The MCAI states that Bombardier determined that non-destructive testing manual (NDTM) procedure ET-57-51-009, dated May 6, 2019, or earlier, did not contain all of the necessary instructions to perform the inspections of the inboard, mid, and outboard flap metallic end ribs in associated airworthiness limitation task number 57-51-00-109. If those inspections are not fully completed, there is a potential for undetected cracks in the inspection area; which can result in structural failure of the flap.

The FAA is proposing this AD to address undetected cracking. The unsafe condition, if not addressed, could result in structural failure of the flap, which could result in possible reduced structural integrity of the airplane. You may examine the MCAI in the AD docket at regulations.gov under Docket No. FAA-2023-1223.

Related Service Information Under 1 CFR Part 51

The FAA reviewed procedure ET-57-51-009. “Special Detailed Inspection of the Inboard, Mid and Outboard Flap (Metallic) End Ribs, of Part 6—Eddy Current, of Bombardier Global 5000 Nondestructive Testing Manual, Publication No. BD-700 NDTM, Revision 46, dated August 16, 2022. This service information specifies revised inspection procedures for NDT procedure ET-57-51-009.

This service information is reasonably available because the interested parties have access to it through their normal course of business or by the means identified in ADDRESSES section.

FAA's Determination

This product has been approved by the aviation authority of another country, and is approved for operation in the United States. Pursuant to the FAA's bilateral agreement with this State of Design Authority, the FAA has been notified of the unsafe condition described in the MCAI and service information referenced above. The FAA is proposing this AD because the FAA evaluated all the relevant information and determined the unsafe condition described previously is likely to exist or develop on other products of the same type design.

Proposed Requirements of This NPRM

This proposed AD would require a revision to the existing maintenance or inspection program to require using a revised NDT procedure when performing a certain airworthiness limitation task. This proposed AD would also prohibit the use of earlier revisions of that NDT procedure when performing that airworthiness limitation task.

Costs of Compliance

The FAA estimates that this AD, if adopted as proposed, would affect 441 airplanes of U.S. registry. The FAA estimates the following costs to comply with this proposed AD:

Estimated Costs for Required Actions
Labor cost | Parts cost | Cost per product | Cost on U.S. operators
1 work-hour × $85 per hour = $85 | $0 | $85 | $37,485

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA determined that this proposed AD would not have federalism implications under Executive Order 13132. This proposed AD would not have a substantial direct effect on the States, on the relationship between the national Government and the States, or on the distribution of power and responsibilities among the various levels of government.

For the reasons discussed above, I certify this proposed regulation:

(1) Is not a “significant regulatory action” under Executive Order 12866,

(2) Would not affect intrastate aviation in Alaska, and

(3) Would not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

Bombardier, Inc.: Docket No. FAA-2023-1223; Project Identifier MCAI-2022-00982-T.

(a) Comments Due Date

The FAA must receive comments on this airworthiness directive (AD) by August 21, 2023.

(b) Affected ADs

None.

(c) Applicability

This AD applies to Bombardier, Inc., Model BD-700-1A10 and BD-700-1A11 airplanes, certificated in any category, having serial numbers 9002 through 9879 inclusive, 9998, and 60001 and subsequent.

(d) Subject

Air Transport Association (ATA) of America Code: 57, Wings.

(e) Reason

This AD was prompted by a determination that a certain nondestructive test (NDT) procedure associated with a certain airworthiness limitation for inspecting for cracks at the inboard, mid, and outboard flap metallic end ribs does not contain all of the necessary instructions. The FAA is issuing this AD to address undetected cracks. The unsafe condition, if not addressed, could result in structural failure of the flap, which could result in possible reduced structural integrity of the airplane.

(f) Compliance

Comply with this AD within the compliance times specified, unless already done.

(g) Maintenance Procedure Limitation

As of 90 days after the effective date of this AD, revise the existing maintenance or inspection program, as applicable, to use procedure ET-57-51-009. “Special Detailed Inspection of the Inboard, Mid and Outboard Flap (Metallic) End Ribs, of Part 6—Eddy Current, of Bombardier Global 5000 Nondestructive Testing Manual, Publication No. BD-700 NDTM, Revision 46, dated August 16, 2022, when performing airworthiness limitation task number 57-51-00-109.

(h) Maintenance Procedure Prohibition

As of 90 days after the effective date of this AD, it is prohibited to use procedure ET-57-51-009. “Special Detailed Inspection of the Inboard, Mid and Outboard Flap (Metallic) End Ribs, of Part 6—Eddy Current, of Bombardier Global 5000 Nondestructive Testing Manual, Publication No. BD-700 NDTM, dated May 6, 2019, or earlier revisions when performing airworthiness limitation task number 57-51-00-109.

(i) Additional AD Provisions

The following provisions also apply to this AD:

(1) Alternative Methods of Compliance (AMOCs): The Manager, International Validation Branch, FAA, has the authority to approve AMOCs for this AD, if requested using the procedures found in 14 CFR 39.19. In accordance with 14 CFR 39.19, send your request to your principal inspector or responsible Flight Standards Office, as appropriate. If sending information directly to the International Validation Branch, send it to the attention of the person identified in paragraph (j)(2) of this AD. Information may be emailed to: 9-AVS-AIR-730-AMOC@faa.gov. Before using any approved AMOC, notify your appropriate principal inspector, or lacking a principal inspector, the manager of the responsible Flight Standards Office.

(2) Contacting the Manufacturer: For any requirement in this AD to obtain instructions from a manufacturer, the instructions must be accomplished using a method approved by the Manager, International Validation Branch, FAA; or Transport Canada; or Bombardier, Inc.'s Transport Canada Design Approval Organization (DAO). If approved by the DAO, the approval must include the DAO-authorized signature.

(j) Additional Information

(1) Refer to Transport Canada AD CF-2022-40, dated July 21, 2022, for related information. This Transport Canada may be found in the AD docket at regulations.gov under Docket No. FAA-2023-1223.

(2) For more information about this AD, contact Yaser Osman, Aviation Safety Engineer, FAA, 1600 Stewart Avenue, Suite 410, Westbury, NY 11590; telephone: 516-228-7300; email: 9-avs-nyaco-cos@faa.gov.

(k) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) Procedure ET-57-51-009. “Special Detailed Inspection of the Inboard, Mid and Outboard Flap (Metallic) End Ribs, of Part 6—Eddy Current, of Bombardier Global 5000 Nondestructive Testing Manual, Publication No. BD-700 NDTM, Revision 46, dated August 16, 2022.

(ii) [Reserved]

(3) For service information identified in this AD, contact Bombardier, Inc., Business Aircraft Customer Response Center, 400 Côte-Vertu Road West, Dorval, Québec H4S 1Y9, Canada; telephone 514-855-2999; email: ac.yul@aero.bombardier.com; internet: bombardier.com.

(4) You may view this service information at the FAA, Airworthiness Products Section, Operational Safety Branch, 2200 South 216th Street, Des Moines, WA. For information on the availability of this material at the FAA, call 206-231-3195.

(5) You may view this service information that is incorporated by reference at the National Archives and Records Administration (NARA). For information on the availability of this material at NARA, email fr.inspection@nara.gov, or go to: www.archives.gov/federal-register/cfr/ibr-locations.html.

Issued on June 28, 2023.
Michael Linegang,
Acting Director, Compliance & Airworthiness Division, Aircraft Certification Service.

[FR Doc. 2023-14076 Filed 7-3-23; 8:45 am]

BILLING CODE 4910-13-P